DEPARTMENT OF ENERGY

Federal Energy Regulatory Commission

[Docket No. EL18-125-000]

Associated Electric Cooperative, Inc.; Notice of Petition for Partial Waiver

Take notice that on March 9, 2018, pursuant to section 292.402 of the Federal Energy Regulatory Commission's (Commission) Rules and Regulations,¹ 18 CFR 292.402 (2018), Associated Electric Cooperative, Inc. (Associated Electric), on behalf of 56 rural electric cooperative member-owners (collectively, the Participating Members),² request a partial waiver of certain obligations imposed on the Participating Members under sections 292.303(a) and 292.303(b) of the Commission's Regulations ³ implementing section 210 of the Public Utility Regulatory Policies Act of 1978, all as more fully explained in the petition.

¹ 18 CFR 292.402 (2017).

² Associated Electric Cooperative, Incorporated's Participating Member-Owners joining in this petition are Central Electric Power Cooperative, Boone Electric Cooperative, Callaway Electric Cooperative, Central Missouri Electric Cooperative, Inc., CO-MO Electric Cooperative, Inc., Consolidated Electric Cooperative, Cuivre River Electric Cooperative, Inc., Howard Electric Cooperative, Inc., Three Rivers Electric Cooperative, KAMO Electric Cooperative, Inc., Barry Electric Cooperative, Inc., Barton County Electric Cooperative, Inc., Cookson Hills Electric Cooperative, Inc., East Central Oklahoma Electric Cooperative, Inc., Indian Electric Cooperative, Inc., Kiamichi Electric Cooperative, Inc., Lake Region Electric Cooperative, Inc., New-Mac Electric Cooperative, Inc., Northeast Oklahoma Electric Cooperative, Inc., Osage Valley Electric Cooperative Association, Inc., Ozark Electric Cooperative, Inc., Ozarks Electric Cooperative Corp., Sac Osage Electric Cooperative, Inc., Southwest Electric Cooperative, Verdigris Valley Electric Cooperative, Inc., White River Valley Electric Cooperative, Inc., M&A Electric Power Cooperative, Black River Electric Cooperative, Ozark Border Electric Cooperative, Pemiscot-Dunklin Electric Cooperative, Inc., SEMO Electric Cooperative, Inc., Northeast Missouri Electric Power Cooperative, Access Energy Cooperative, Chariton Valley Electric Cooperative, Inc., Lewis County Rural Electric Cooperative Association, Macon Electric Cooperative, Missouri Rural Electric Cooperative, Ralls County Electric Cooperative, Southern Iowa Electric Cooperative, Tri-County Electric Cooperative Association, NW Electric Power Cooperative, Inc., Atchison-Holt Electric Cooperative, Farmers' Electric Cooperative, Inc., Grundy Electric Cooperative, Inc., North Central Missouri Electric Cooperative, Inc., Platte-Clay Electric Cooperative, Inc., United Electric Cooperative, Inc., West Central Electric Cooperative, Inc., Sho-Me Power Electric Cooperative, Crawford Electric Cooperative, Gascosage Electric Cooperative, Howell-Oregon Electric Cooperative, Inc., Intercounty Electric Cooperative Association, Laclede Electric Cooperative, Se-Ma-No Electric Cooperative, and Webster Electric Cooperative.

³ 18 CFR 292.303(a) and (b) (2012).

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant.

The Commission encourages electronic submission of protests and interventions in lieu of paper using the eFiling link at http://www.ferc.gov. Persons unable to file electronically should submit an original and 5 copies of the protest or intervention to the Federal Energy Regulatory Commission, 888 First Street NE, Washington, DC 20426.

This filing is accessible on-line at http://www.ferc.gov, using the eLibrary link and is available for review in the Commission's Public Reference Room in Washington, DC. There is an eSubscription link on the website that enables subscribers to receive email notification when a document is added to a subscribed docket(s). For assistance with any FERC Online service, please email FERCOnlineSupport@ferc.gov, or call (866) 208-3676 (toll free). For TTY, call (202) 502-8659.

Comment Date: 5:00 p.m. Eastern time on March 30, 2018.

Dated: March 9, 2018.
Kimberly D. Bose,
Secretary.

[FR Doc. 2018-05233 Filed 3-14-18; 8:45 am]

BILLING CODE 6717-01-P